DEPARTMENT OF DEFENSE

Office of the Secretary

DoD Medicare-Eligible Retiree Health Care Board of Actuaries

AGENCY: Department of Defense.

ACTION: Notice of meeting.

SUMMARY: A meeting of the Board has been scheduled to execute the provisions of Chapter 56 Title 10, United States Code (10 U.S.C. 1114 et seq.). The Board shall review DoD actuarial methods and assumptions to be used in the valuation of benefits under DoD retiree health care programs for Medicare-eligible beneficiaries. Persons desiring to attend the DoD Medicare-Eligible Retiree Health Care Board of Actuaries meeting, or make an oral presentation or submit a written statement for consideration at the meeting, must notify Margot Kaplan at 703-696-7404 by June 25, 2007. Notice of this meeting is required under the Federal Advisory Committee Act.

DATES: July 12, 2007, 1:30 p.m.-5 p.m.

ADDRESSES: 4040 N Fairfax Drive, Suite 270, Arlington, VA 22203.

FOR FURTHER INFORMATION CONTACT: Margot Kaplan, DoD Office of the Actuary, 4040 N. Fairfax Drive, Suite 308, Arlington, VA 22203, (703) 696-7404.

Dated: March 28, 2007.
L.M. Bynum,
Alternate OSD Federal Register Liaison Officer, DoD.

[FR Doc. 07-1622 Filed 4-2-07; 8:45 am]

BILLING CODE 5001-06-M